DEPARTMENT OF DEFENSE

Department of the Navy

Notice of Intent To Grant an Exclusive License; SpringStar Inc.

AGENCY: Department of the Navy, DoD.

ACTION: Notice.

SUMMARY: The Department of the Navy hereby gives notice of its intent to grant SpringStar Inc. a revocable, nonassignable, exclusive license to practice worldwide the Government owned inventions described in U.S. Patent Application 14/693,615 filed April 22, 2015 and entitled “Insect control formulation with improved auto-dissemination characteristics,” as well as any issued patent, divisional or continuation from that and related foreign filings in the field of insect control.

DATES: Anyone wishing to object to the grant of this license has fifteen (15) days from the date of this notice to file written objections along with supporting evidence, if any, not later than August 8, 2016.

ADDRESSES: Written objections are to be filed with Attn: Naval Medical Research Center, Code 1URO/OPBD, 503 Robert Grant Avenue, Silver Spring, MD 20910-7500.

FOR FURTHER INFORMATION CONTACT: Dr. T.A. Ponzio, Director, Partnerships & Business Development, Naval Medical Research Center, 503 Robert Grant Ave., Silver Spring, MD 20910-7500; todd.a.ponzio.civ@mail.mil; telephone: 240-762-0673.

Authority: 35 U.S.C. 207, 37 CFR part 404.

Dated: July 13, 2016.
N.A. Hagerty-Ford,
Commander, Judge Advocate General's Corps, U.S. Navy, Federal Register Liaison Officer.

[FR Doc. 2016-17027 Filed 7-21-16; 8:45 am]

BILLING CODE 3810-FF-P